DEPARTMENT OF HOUSING AND URBAN DEVELOPMENT

[Docket No. FR-4572-D-15]

Order of Succession for the Secretary of Housing and Urban Development

AGENCY: Office of the Secretary, HUD.

ACTION: Notice of Order of Succession.

SUMMARY: In this notice, the Secretary of Housing and Urban Development designates the Order of Succession for the position of Secretary of Housing and Urban Development. This Order of Succession is subject to the provisions of the Federal Vacancies Reform Act of 1998, 5 U.S.C. 3345-3349d. This publication supersedes the Order of Succession notice on December 11, 1989 at 54 FR 50823.

EFFECTIVE DATE: November 30, 2000.

FOR FURTHER INFORMATION CONTACT: Virginia Kelly Ackerman, Senior Attorney, Procurement and Administrative Law Division, Office of General Counsel, Department of Housing and Urban Development, 451 7th Street, SW., Washington, DC 20410. Telephone: 202-708-0622. (This is not a toll-free number.) This telephone number may be accessed via TTY by calling the Federal Information Relay Service at 1-800-877-8339.

Section A. Order of Succession

Subject to the provisions of the Federal Vacancies Reform Act of 1998, during any period when, by reason of absence, disability, or vacancy in office, the Secretary is not available to exercise the powers or perform the duties of the Secretary, the following are hereby designated to exercise all powers, functions and duties assigned to or vested in the Secretary. However, no official shall act as Secretary until all of the appointees listed before such official's title in this designation are unable to act by reason of absence, disability, or vacancy in office:

(1) Deputy Secretary

(2) General Counsel

(3) Assistant Secretary for Housing-Federal Housing Commissioner

(4) Assistant Secretary for Community, Planning and Development

(5) Assistant Secretary for Public and Indian Housing

(6) Assistant Secretary for Policy Development and Research

(7) Assistant Secretary for Fair Housing and Equal Opportunity

(8) Assistant Secretary for Congressional and Intergovernmental Relations

(9) Assistant Secretary for Administration

(10) Assistant Secretary for Public Affairs.

In the event of a national security or other emergency and none of the officials named above is able to act, appointees to the positions listed below are authorized to exercise all powers, functions, and duties assigned to or vested in the Secretary. Executive Order No. 12656, 53 FR 47491 (published November 23, 1988), as amended at 63 FR 7277 (February 12, 1998). However, no official shall act as Secretary until, all of the appointees listed before such official's title in this designation are unable to act by reason of absence, disability, or vacancy in office:

1. President, Government National Mortgage Association

2. Chief Financial Officer

3. Director, Office of Federal Enterprise Oversight

4. Secretary's Representative, New England (Boston)

5. Secretary's Representative, New York/New Jersey (New York)

6. Secretary's Representative, Mid-Atlantic (Philadelphia)

7. Secretary's Representative, Southeast/Caribbean (Atlantic)

8. Secretary's Representative, Midwest (Chicago)

9. Secretary's Representative, Southwest (Fort Worth)

10. Secretary's Representative, Great Plains (Kansas City)

11. Secretary's Representative, Rocky Mountains (Denver)

12. Secretary's Representative, Pacific/Hawaii (San Francisco)

13. Secretary's Representative, Northwest/Alaska (Seattle)

Section B. Authority Superseded

This Order of Succession supersedes the Order of Succession of the Secretary of Housing and Urban Development, published at 54 FR 50823 (December 11, 1989).

Authority: Executive Order 11274, 5 U.S.C. 3347; sec. 7(d), Department of Housing and Urban Development Act (42 U.S.C. 3535(d)); Executive Order 12656, 53 FR 47491 (November 23, 1988), as amended at 63 FR 7277 (February 12, 1998); Federal Vacancies Reform Act of 1998, 5 U.S.C. 3345-3349d.

Dated: November 30, 2000.
Andrew Cuomo,
Secretary of Housing and Urban Development.

[FR Doc. 00-31504 Filed 12-11-00; 8:45 am]

BILLING CODE 4210-32-M